DEPARTMENT OF HEALTH AND HUMAN SERVICES

Centers for Medicare & Medicaid Services

[Document Identifier: CMS-37, CMS-10097 and CMS-10257]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Medicaid Program Budget Report; Use: The Medicaid Program Budget Report is prepared by the State Medicaid agencies and is used by CMS for developing national Medicaid budget estimates, qualification of budget estimate changes, and the issuance of quarterly Medicaid grant awards.

Form Number: CMS-37 (OMB# 0938-0101); Frequency: Quarterly; Affected Public: State, Local, or Tribal Governments; Number of Respondents: 56; Total Annual Responses: 224; Total Annual Hours: 7,616.

2. Type of Information Collection Request: Revision of a currently approved collection; Title of Information Collection: The Annual Medicare Contractor Provider Satisfaction Survey (MCPSS); Use: Medicare Contractors are charged with processing Medicare claims and related activities and providers interact with them on a daily basis. The Medicare Contractor Provider Satisfaction Survey (MCPSS) measures this Provider-Contractor relationship. The Contractors are currently using, and will continue to use, the MCPSS results to implement performance improvement activities within their organizations. The MCPSS questionnaire includes the following topics: Provider inquiries, provider outreach & education, claims processing, appeals, provider enrollment, medical review, and provider audit & reimbursement. The Survey is designed to measure provider satisfaction, attitudes, perceptions and opinions about the services provided by their respective Contractor. The results include quantitative data (a satisfaction score) and qualitative information (comments relevant to specific topics).

The 2009 MCPSS will differ from 2008 in two ways, (refer to the specific documents for additional changes): (1) The questionnaire will be slightly modified, including the net addition of two questions; and (2) the definition of a completed survey will be revised. Form Number: CMS-10097 (OMB# 0938-0915); Frequency: Yearly; Affected Public: Business or other for-profits and Not-for-profit institutions; Number of Respondents: 24,279; Total Annual Responses: 24,279; Total Annual Hours: 8346.

Type of Information Collection Request: Extension of a currently approved collection;

3. Type of Information Collection Request: New collection; Extension of a currently approved collection; Title of Information Collection: National Medicare Training Program Training Needs Assessment Survey; Use: The Centers for Medicare and Medicaid Services (CMS) is requesting clearance for an Online Needs Assessment Survey that will inform the National Medicare Training Program (NMTP) in their efforts to develop materials vital to the performance of key Medicare partners. NMTP communicates information about a wide array of Medicare topics to a diverse audience of partner organizations through in-person workshops, teleconferences, and Online training materials. These partner organizations include other state and federal agencies, health plans, aging networks/coalitions, long term care institutions, disability/mental health providers and advocates, HIV/AIDS providers, other health care providers and disease-specific advocacy groups, faith based organizations, and racial/ethnic minority organizations. These partners extend the reach of NMTP to population segments that have information barriers, including language, literacy, location, and culture, to help them understand the varied and sometimes complex choices about how they receive their Medicare benefits. This survey will allow NMTP to assess the education and training needs of its partner organizations on an annual basis, to ensure that they have the information and materials they need to assist the beneficiaries they serve. Form Number: CMS-10257 (OMB# 0938-New); Frequency: Once; Affected Public: Not-for-profit institutions, State, Local and Tribal governments, Federal Government; Number of Respondents: 4,000; Total Annual Responses: 4,000; Total Annual Hours: 1,000.

To obtain copies of the supporting statement and any related forms for the proposed paperwork collections referenced above, access CMS' Web site address at http://www.cms.hhs.gov/PaperworkReductionActof1995, or e-mail your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by July 1, 2008:

1. Electronically. You may submit your comments electronically to http://www.regulations.gov. Follow the instructions for “Comment or Submission” or “More Search Options” to find the information collection document(s) accepting comments.

2. By regular mail. You may mail written comments to the following address:

CMS, Office of Strategic Operations and Regulatory Affairs, Division of Regulations Development, Attention: Document Identifier/OMB Control Number ___, Room C4-26-05, 7500 Security Boulevard, Baltimore, Maryland 21244-1850.

Dated: April 24, 2008.
Michelle Shortt,
Director, Regulations Development Group, Office of Strategic Operations and Regulatory Affairs.

[FR Doc. E8-9503 Filed 5-1-08; 8:45 am]

BILLING CODE 4120-01-P